DEPARTMENT OF ENERGY

Federal Energy Regulatory Commission

[Docket Nos. CP20-52-000; PF19-7-000]

WBI Energy Transmission, Inc.; Notice of Application

Take notice that on February 14, 2020, WBI Energy Transmission, Inc. (WBI), 1250 West Century Avenue, Bismarck, North Dakota 58503, filed in the above referenced docket an application pursuant to section 7(c) of the Natural Gas Act, requesting authorization to construct, modify, operate, and maintain the North Bakken Expansion Project located in northwestern North Dakota, all as more fully described in the application which is on file with the Commission and open to public inspection.

The filing is available for review at the Commission in the Public Reference Room or may be viewed on the Commission's website web at http://www.ferc.gov using the “eLibrary” link. Enter the docket number excluding the last three digits in the docket number field to access the document. For assistance, contact FERC at FERCOnlineSupport@ferc.gov or call toll-free, (866) 208-3676 or TTY, (202) 502-8659.

Specifically, WBI proposes to: (i) Construct approximately 61.9 miles of new 24-inch-diameter natural gas pipeline from WBI Energy's Tioga Compressor Station in Williams County, North Dakota to the proposed Elkhorn Creek Compressor Station in McKenzie County, North Dakota; (ii) construct approximately 0.3 mile of new 24-inch-diameter natural gas pipeline from the proposed Elkhorn Creek Compressor Station to a new interconnect with Northern Border Pipeline Company in McKenzie County; (iii) construct approximately 20.4 miles of new 12-inch-diameter natural gas pipeline loop along WBI Energy's Line Section 25 in Mountrail and Burke Counties, North Dakota; (iv) construct approximately 9.4 miles of new 12-inch-diameter natural gas pipeline loop along WBI Energy's Line Section 30 in Williams County; (v) construct approximately 0.5 mile of new 20-inch-diameter receipt lateral to the Tioga Compressor Station; (vi) uprate Line Section 25; (vii) install an additional 22,500 hp at the Tioga Compressor Station; (viii) construct a new compressor station totaling 3,750 hp, the Elkhorn Creek Compressor Station, in McKenzie County; and (ix) install new, and modify, existing delivery, receipt, and transfer stations along the pipeline routes, replace small segments of pipeline facilities and install block valves, pig launcher/receiver stations and other associated appurtenances.

WBI says that the project will allow it to provide an additional 350 MMcf/d of incremental firm transportation capacity from the Williston Basin in northwest North Dakota to a new interconnect with Northern Border's existing mainline. WBI estimates the cost of the project to be $300 million.

Any questions regarding this application should be directed Lori Myerchin, Director, Regulatory Affairs and Transportation Services, WBI Energy Transmission, Inc., 1250 West Century Avenue, Bismarck, North Dakota 58503, by telephone at (701) 530-1563 or by email at lori.myerchin@wbienergy.com.

On July 3, 2019, Commission staff granted WBI's request to utilize the Pre-Filing Process and assigned Docket No. PF19-7-000 to staff activities involved in the project. Now, as of the filing of this application on February 14, 2020, the Pre-Filing Process for this project has ended. From this time forward, this proceeding will be conducted in CP20-52-000, as noted in the caption of this Notice.

Pursuant to section 157.9 of the Commission's rules, 18 CFR 157.9, within 90 days of this Notice the Commission staff will either: Complete its environmental assessment (EA) and place it into the Commission's public record (eLibrary) for this proceeding; or issue a Notice of Schedule for Environmental Review. If a Notice of Schedule for Environmental Review is issued, it will indicate, among other milestones, the anticipated date for the Commission staff's issuance of the final environmental impact statement (FEIS) or EA for this proposal. The filing of the EA in the Commission's public record for this proceeding or the issuance of a Notice of Schedule for Environmental Review will serve to notify federal and state agencies of the timing for the completion of all necessary reviews, and the subsequent need to complete all federal authorizations within 90 days of the date of issuance of the Commission staff's FEIS or EA.

There are two ways to become involved in the Commission's review of this project. First, any person wishing to obtain legal status by becoming a party to the proceedings for this project should, on or before the comment date stated below file with the Federal Energy Regulatory Commission, 888 First Street NE, Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 3 copies of filings made in the proceeding with the Commission and must provide a copy to the applicant and to every other party. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list and will be notified of any meetings associated with the Commission's environmental review process. Environmental commenters will not be required to serve copies of filed documents on all other parties. However, the non-party commenters will not receive copies of all documents filed by other parties or issued by the Commission and will not have the right to seek court review of the Commission's final order.

As of the February 27, 2018 date of the Commission's order in Docket No. CP16-4-001, the Commission will apply its revised practice concerning out-of-time motions to intervene in any new Natural Gas Act section 3 or section 7 proceeding.¹ Persons desiring to become a party to a certificate proceeding are to intervene in a timely manner. If seeking to intervene out-of-time, the movant is required to show good cause why the time limitation should be waived, and should provide justification by reference to factors set forth in Rule 214(d)(1) of the Commission's Rules and Regulations.²

¹ Tennessee Gas Pipeline Company, L.L.C., 162 FERC 61,167 at 50 (2018).

² 18 CFR 385.214(d)(1).

The Commission strongly encourages electronic filings of comments, protests and interventions in lieu of paper using the eFiling link at http://www.ferc.gov. Persons unable to file electronically should submit an original and 3 copies of the protest or intervention to the Federal Energy Regulatory Commission, 888 First Street NE, Washington, DC 20426.

Comment Date: 5:00 p.m. Eastern Time on March 18, 2020.

Dated: February 26, 2020.
Kimberly D. Bose,
Secretary.

[FR Doc. 2020-04321 Filed 3-2-20; 8:45 am]

BILLING CODE 6717-01-P